DEPARTMENT OF THE INTERIOR

National Park Service

[NPS-WASO-NRNHL-DTS#-29566; PPWOCRADI0, PCU00RP14.R50000]

National Register of Historic Places; Notification of Pending Nominations and Related Actions

AGENCY: National Park Service, Interior.

ACTION: Notice.

SUMMARY: The National Park Service is soliciting comments on the significance of properties nominated before December 28, 2019, for listing or related actions in the National Register of Historic Places.

DATES: Comments should be submitted by January 29, 2020.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before December 28, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

DELAWARE

New Castle County

Budovitch, Florence and Isaac, House, 4611 Bedford Blvd., Wilmington, SG100004954

Newark Union Church and Cemetery, 8 and 20 Newark Union Public Rd., Wilmington vicinity, SG100004955

FLORIDA

Miami-Dade County

La Palma Hotel, 116 Alhambra Cir., Coral Gables, SG100004971

Miami Black Police Precinct and Courthouse, 480 NW 11th St., Miami, SG100004974

Duval County

Memorial Cemetery, (Historic African American Cemeteries in Duval County, Florida MPS), Moncrief Rd. & Edgewood Ave. West, Jacksonville, MP100004973

IOWA

Mahaska County

Oskaloosa Post Office, 206 North Market St., Oskaloosa, SG100004975

Mitchell County

Saint Ansgar Public School, 202 South Washington St., St. Ansgar, SG100004976

MISSISSIPPI

Warren County

Uptown Vicksburg Historic District (Boundary Increase II), (Vicksburg MPS), Roughly bounded by Washington, Grove, China, Clay, Locust, South & Veto Sts., Vicksburg, BC100004962

NEW JERSEY

Essex County

Maple Avenue School, 33 Maple Ave., Newark City, SG100004957

NEW YORK

Chemung County

Elmira Civic Historic District (Boundary Increase and Decrease), Portions of Lake, East Church, East Water, Clemens Ctr. Pkwy., East Market, Baldwin, William, & Carroll Sts., Elmira, BC100004956

TEXAS

Comal County

Kappelmann-Mayer Ranch, 4738 FM 1863, Bulverde, SG100004965

Harris County

Battelstein's, 812 Main St., Houston, SG100004966

Cameron Iron Works, 711 Milby St., Houston, SG100004967

Hermann Park Municipal Golf Clubhouse, 6201 Hermann Park Dr., Houston, SG100004968

Tarrant County

Katy Freight Depot, 100 South Jones St., Fort Worth, SG100004969

Travis County

Town Lake Gazebo, 9307 Ann & Roy Butler Hike & Bike Trail, Austin, SG100004970

WASHINGTON

King County

Colman Park & Dose Terrace Stairs, Roughly bounded by South Massachusetts St., South Dose Terrace, 31st Ave. South, & the Lake Washington shoreline, Seattle, SG100004959

Mount Baker Park and Boulevard, Lake Park Dr. South & South Mount Baker Park Blvd., Seattle, SG100004961

Spokane County

Columbia Building, 107 South Howard St., Spokane, SG100004960

WEST VIRGINIA

Kanawha County

West Virginia Schools for the Colored Deaf & Blind, Barron Dr., Institute, SG100004950

WISCONSIN

Walworth County

Borg, George W., Corporation, 820 East Wisconsin St., Delavan, SG100004953

Additional documentation has been received for the following resources:

MINNESOTA

Ramsey County

Watson, Dwight H. and Clara M., House (Additional Documentation), 402 Hall Ave., St. Paul, AD100004757

MISSISSIPPI

Warren County

Uptown Vicksburg Historic District (Additional Documentation), (Vicksburg MPS), Roughly bounded by Washington, Grove, China, Clay, Locust, South & Veto Sts., Vicksburg, AD93000850

NEW YORK

Chemung County

Elmira Civic Historic District (Additional Documentation), Portions of Lake, East Church, East Water, Clemens Ctr. Pkwy., East Market, Baldwin, William, & Carroll Sts., Elmira, AD80002596

WEST VIRGINIA

Kanawha County

Kanawha State Forest Historic District (Additional Documentation), Co. Rd. 42/43 2.6 mi. S of Charleston, Loundendale vicinity, AD93000228

Authority: Section 60.13 of 36 CFR part 60

Dated: December 30, 2019.
Julie H. Ernstein,
Supervisory Archeologist, National Register of Historic Places/National Historic Landmarks Program.

[FR Doc. 2020-00395 Filed 1-13-20; 8:45 am]

BILLING CODE 4312-52-P